DEPARTMENT OF THE INTERIOR

Fish and Wildlife Service

[Docket No. FWS-R8-ES-2024-0020; FXES11140800000]

Endangered and Threatened Species; Receipt of an Incidental Take Permit Application and Proposed Habitat Conservation Plan; City of Colton, San Bernardino County, CA; Categorical Exclusion; Extension of Public Comment Period

AGENCY: Fish and Wildlife Service, Interior.

ACTION: Notice; extension of public comment period.

SUMMARY: We, the U.S. Fish and Wildlife Service (Service), announce that we are extending the comment period for the public to review a draft habitat conservation plan (HCP) and a draft environmental action statement and low-effect screening form. These documents are associated with the Colton/San Bernardino Regional Tertiary Treatment and Water Reclamation Authority and San Bernardino Municipal Water Department's application under the Endangered Species Act for a permit associated with incidental take of the Santa Ana sucker (Catostomus santaanae). Comments previously submitted need not be resubmitted, as they will be fully considered in preparing the final documents.

DATES: The comment period for the revised HCP and draft environmental action statement, notice of which published on March 28, 2024 (89 FR 21539), is extended by 7 days. Comments submitted online at https://www.regulations.gov/ must be received by 11:59 p.m. eastern time on May 6, 2024. Hardcopy comments must be received on or before May 6, 2024.

ADDRESSES:

Obtaining Documents: The draft HCP and environmental action statement, as well as any comments and other materials that we receive, will be available for public inspection online in Docket No. FWS-R8-ES-2024-0020 at https://www.regulations.gov.

Submitting Comments: You may submit comments by one of the following methods:

• Online: https://www.regulations.gov. Follow the instructions for submitting comments to Docket No. FWS-R8-ES-2024-0020.

• U.S. Mail: Public Comments Processing, Attn Docket No. FWS-R8-ES-2024-0020; U.S. Fish and Wildlife Service Headquarters, MS: PRB/3W; 5275 Leesburg Pike; Falls Church, VA 22041-3803.

For more information about submitting public comments, see our March 28, 2024, notice.

FOR FURTHER INFORMATION CONTACT: Karin Cleary-Rose, by phone at (760) 332-2070 or by email at karin_cleary-rose@fws.gov. Individuals in the United States who are deaf, deafblind, hard of hearing, or have a speech disability may dial 711 (TTY, TTD, or TeleBraille) to access telecommunications relay services. Individuals outside the United States should use the relay services offered within their country to make international calls to the point-of-contact in the United States.

SUPPLEMENTARY INFORMATION: On March 28, 2024 (89 FR 21539), we, the U.S. Fish and Wildlife Service (Service), announced that we received an application from the Colton/San Bernardino Regional Tertiary Treatment and Water Reclamation Authority and San Bernardino Municipal Water Department (applicants) for an incidental take permit under the Endangered Species Act of 1973, as amended (ESA; 16 U.S.C. 1531 et seq). We requested public comment on application, which includes the applicant's proposed habitat conservation plan (HCP), and on the Service's preliminary determination that this proposed ITP qualifies as low effect, and may qualify for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we prepared a draft environmental action statement and low-effect screening form, both of which are also available for public review.

With this notice, we are extending the public comment period (see DATES and ADDRESSES).

Authority: We provide this notice under section 10(c) of the ESA (16 U.S.C. 1531 et seq.) and its implementing regulations (50 CFR 17.22 and 17.32) and NEPA (42 U.S.C. 4321 et seq.) and its implementing regulations (40 CFR 1506.6 and 43 CFR 46.305).

Scott Sobiech,
Field Supervisor, Carlsbad Fish and Wildlife Office, Carlsbad, California.

[FR Doc. 2024-08259 Filed 4-17-24; 8:45 am]

BILLING CODE 4333-15-P